DEPARTMENT OF ENERGY

Federal Energy Regulatory Commission

[Docket No. RP99-381-007]

Wyoming Interstate Company, Ltd,; Notice of Compliance Filing

January 10, 2001.

Take notice that on January 5, 2001, Wyoming Interstate Company, Ltd. (WIC) tendered for filing as part if its FERC Gas Tariff, Second Revised Volume No. 2, the sheets listed on Appendix A and Appendix B to the filing, to become effective on the dates indicated on each sheet.

WIC asserts that the purpose of this filing is to comply with the Commission's order issued September 27, 2000 in Docket No. RP99-381 approving settlement and granting interlocutory appeal. Specifically, this filing reflects the transportation rates from January 1, 2000 forward for consenting and contesting parties.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-1256 Filed 1-16-01; 8:45 am]

BILLING CODE 6717-01-M